NUCLEAR REGULATORY COMMISSION

[NRC-2017-0001]

Sunshine Act Meeting Notice

DATE: Weeks of September 25, October 2, 9, 16, 23, 30, 2017.

PLACE: Commissioners' Conference Room, 11555 Rockville Pike, Rockville, Maryland.

STATUS: Public and Closed.

Week of September 25, 2017

There are no meetings scheduled for the week of September 25, 2017.

Week of October 2, 2017—Tentative

Friday, October 6, 2017

10:00 a.m. Meeting with Advisory Committee on Reactor Safeguards (Public) (Contact: Mark Banks: 301-415-3718)

This meeting will be webcast live at the Web address— http://www.nrc.gov/.

Week of October 9, 2017—Tentative

There are no meetings scheduled for the week of October 9, 2017.

Week of October 16, 2017—Tentative

There are no meetings scheduled for the week of October 16, 2017.

Week of October 23, 2017—Tentative

Tuesday, October 24, 2017

10:00 a.m. Strategic Programmatic Overview of the Operating Reactors Business Line (Public) (Contact: Trent Wertz: 301-415-1568)

Week of October 30, 2017—Tentative

There are no meetings scheduled for the week of October 30, 2017.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: September 20, 2017.
Rochelle Bavol,
Executive Assistant, Office of the Secretary.

[FR Doc. 2017-20407 Filed 9-20-17; 4:15 pm]

BILLING CODE 7590-01-P